SOCIAL SECURITY ADMINISTRATION

[Docket No. SSA 2019-0006]

Privacy Act of 1974; Matching Program

AGENCY: Social Security Administration (SSA).

ACTION: Notice of a new matching program.

SUMMARY: In accordance with the provisions of the Privacy Act, as amended, this notice announces a new matching program with the U.S. Department of Health and Human Services, Office of Child Support Enforcement (OCSE).

DATES: The deadline to submit comments on the proposed matching program is February 5, 2020. The matching program will be applicable, once a minimum of 30 days after publication of this notice has elapsed, February 5, 2020. The matching program will be in effect for a period of 18 months.

ADDRESSES: Interested parties may comment on this notice by either telefaxing to (410) 966-0869, writing to Matthew Ramsey, Executive Director, Office of Privacy and Disclosure, Office of the General Counsel, Social Security Administration, G-401 WHR, 6401 Security Boulevard, Baltimore, MD 21235-6401, or emailing Matthew.Ramsey@ssa.gov. All comments received will be available for public inspection by contacting Mr. Ramsey at this street address.

FOR FURTHER INFORMATION CONTACT: Interested parties may submit general questions about the matching program to Norma Followell, Supervisory Team Lead, Office of Privacy and Disclosure, Office of the General Counsel, Social Security Administration, G-401 WHR, 6401 Security Boulevard, Baltimore, MD 21235-6401, at telephone: (410) 966-5855, or send an email to Norma.Followell@ssa.gov.

SUPPLEMENTARY INFORMATION: This computer matching agreement, hereinafter “agreement,” governs a matching program between OCSE and SSA. The agreement covers the following information exchange operations between OCSE and SSA from the National Directory of New Hires (NDNH): Online query access for Supplemental Security Income (SSI), Disability Insurance (DI), and Ticket-to-Work and Self-Sufficiency (Ticket) programs, and SSI Quarterly Wage batch match. This agreement also governs the use, treatment, and safeguarding of the information exchanged. OCSE is the “source agency” and SSA is the “recipient agency.” This agreement assists SSA (1) in establishing or verifying eligibility or payment amounts, or both under the SSI program; (2) in establishing or verifying eligibility or continuing entitlement under the DI program; and (3) in administering the Ticket programs. SSA evaluates the cost-benefits, including programmatic and operational impact, which NDNH information has on SSA programs and operations.

Matthew Ramsey,
Executive Director, Office of Privacy and Disclosure, Office of the General Counsel.

Participating Agencies: SSA and OCSE.

Authority for Conducting the Matching Program: The legal authorities for disclosures under this agreement are the Social Security Act (Act) and the Privacy Act of 1974, as amended. Section 453(j)(4) of the Act provides that OCSE shall provide the Commissioner of Social Security with all information in the NDNH. 42 U.S.C. 653(j)(4). SSA has authority to use data to determine entitlement and eligibility for programs it administers pursuant to sections 453(j)(4), 1631(e)(1)(B) and (f), and 1148(d)(1) of the Act. 42 U.S.C. 653(j)(4), 1320b-19(d)(1), and 1383(e)(1)(B) and (f). Disclosures under this agreement shall be made in accordance with 5 U.S.C. 552a(b)(3), and in compliance with the matching procedures in 5 U.S.C. 552a(o), (p), and (r).

The Commissioner of Social Security is required to verify eligibility of a recipient or applicant for SSI using independent or collateral sources. SSI benefits may not be determined solely based on declarations by the applicant concerning eligibility factors or other relevant facts. Information is also obtained, as necessary, in order to assure that SSI benefits are only provided to eligible individuals (or eligible spouses) and that the amounts of such benefits are correct. Section 1631(e)(1)(B) of the Act (42 U.S.C. 1383(e)(1)(B)).

Subsection 1631(f) of the Act (42 U.S.C. 1383(f)) provides that “the head of any federal agency shall provide such information as the Commissioner of Social Security needs for purposes of determining eligibility for or amount of benefits, or verifying information with respect thereto.”

Section 1148(d)(1) of the Act (42 U.S.C. 1320b-19(d)(1)) requires SSA to verify earnings of beneficiaries/recipients to ensure accurate payments to employer network providers under the Ticket-to-Work program.

Purpose(s): This computer matching agreement, hereinafter “agreement,” governs a matching program between OCSE and SSA. The agreement covers the following information exchange operations between OCSE and SSA from the National Directory of New Hires (NDNH): Online query access for Supplemental Security Income (SSI), Disability Insurance (DI), and Ticket-to-Work and Self-Sufficiency (Ticket)programs; and SSI Quarterly Wage batch match.

This agreement also governs the use, treatment, and safeguarding of the information exchanged. OCSE is the “source agency” and SSA is the “recipient agency,” as defined by the Privacy Act. 5 U.S.C. 552a(a)(9) and (11).

This agreement assists SSA:

(1) In establishing or verifying eligibility or payment amounts, or both under the SSI program;

(2) in establishing or verifying eligibility or continuing entitlement under the DI program; and

(3) in administering the Ticket programs.

These activities include overpayment avoidance and recovery for all three programs. SSA evaluates the cost-benefits, including programmatic and operational impact, which NDNH information has on SSA programs and operations.

The Privacy Act, as amended by the Computer Matching and Privacy Protection Act of 1988, provides that no record contained in a system of records (SOR) may be disclosed for use in a computer matching program except pursuant to a written agreement containing specified provisions. 5 U.S.C. 552a(o). SSA and OCSE are executing this agreement to comply with the Privacy Act of 1974, as amended, and the regulations and guidance promulgated thereunder. OCSE and SSA have been parties to matching agreements and recertification for these purposes since 2001.

The SSA component responsible for this agreement and its contents is the Office of Privacy and Disclosure. The responsible component for OCSE is the Division of Federal Systems. This agreement is applicable to personnel, facilities, and information systems of SSA and OCSE involved in the processing and storage of NDNH information. Personnel are defined as employees, and contractors/agents of OCSE and SSA.

Categories of Individuals: The SSA finder file for the SSI quarterly match will contain approximately 8.6 million records of individuals. For online queries, SSA will only query one record at a time and queries of individual records should not exceed 14 million in a given year.

The NDNH contains approximately 1.4 billion new hire, quarterly wage, and unemployment insurance records, which represents the most recent 24 months of information. In accordance with section 453(j)(4) of the Act, NDNH information provided to SSA by OCSE will contain all the available data elements from the new hire, quarterly wage, and unemployment insurance information, if any, pertaining to the individuals whose records are contained in the SSA finder file or online query. 42 U.S.C. 653(j)(4).

Categories of Records:

1. Quarterly Batch Match (SSI). SSA's finder file is matched against the quarterly wage and unemployment insurance information in OCSE's NDNH.

a. SSA will provide electronically to OCSE the following data elements in the finder file:

• Individual's Social Security number (SSN)

• Name

b. OCSE will provide electronically to SSA the following data elements from the NDNH in the quarterly wage file:

• Quarterly wage record identifier

• For employees:

(1) Name (first, middle, last)

(2) SSN

(3) Verification request code

(4) Processed date

(5) Non-verifiable indicator

(6) Wage amount

(7) Reporting period

• For employers of individuals in the quarterly wage file of the NDNH:

(1) Name

(2) Employer identification number

(3) Address(es)

• Transmitter agency code

• Transmitter state code

• State or agency name

c. OCSE will provide electronically to SSA the following data elements from the NDNH in the unemployment insurance file:

• Unemployment insurance record identifier

• Processed date

• SSN

• Verification request code

• Name (first, middle, last)

• Address

• Unemployment insurance benefit amount

• Reporting period

• Transmitter agency code

• Transmitter state code

• State or agency name

2. Online Query Access (SSI, DI, and Ticket programs). SSA will access OCSE's web service when making online requests for NDNH records:

a. Data element to initiate a query in SSA's Permission Module:

• Individual's SSN

b. Data elements on quarterly wage screen:

• Quarterly wage record identifier

• Date report processed

• Name/SSN verified

• For Employees:

(1) SSN

(2) Name (first, middle, last)

(3) Wage amount

(4) Reporting period

• For Employers:

(1) Name

(2) Employer identification number

(3) Employer FIPS code (if present)

(4) Address(es)

c. Data elements on the new hire screen:

• New hire record identifier

• Name/SSN verified

• Date report processed

• For Employees:

(1) SSN

(2) Name (first, middle, last)

(3) Date of hire

• For Employers:

(1) Name

(2) Employer identification number

(3) Employer FIPS code (if present)

(4) Address(es)

d. Data elements on the unemployment insurance screen:

• Unemployment insurance record identifier

• Name/SSN verified

• SSN

• Name (first, middle, last)

• Address

• Unemployment insurance benefit amount

• Reporting period

• Payer state

• Date report processed

System(s) of Records: OCSE and SSA published notice of the relevant SORs in the Federal Register. For the batch process, SSA's SOR is the Supplemental Security Income Record and Special Veterans Benefits (SSR/SVB), SSA/OASSIS, 60-0103 last fully published at 71 FR 1830 (January 11, 2006), and amended at 72 FR 69723 (December 10, 2007), and at 83 FR 31250-31251 (July 3, 2018), and at 83 FR 54969 (November 1, 2018).

For the query process, SSA's SORs are the SSR; Completed Determination Record-Continuing Disability Determination file (CDR-CDD), 60-0050, last fully published at 71 FR 1813 (January 11, 2006), and amended at 72 FR 69723 (December 10, 2007); and the Master Beneficiary Record (MBR), 60-0090, last fully published at 71 FR 1826 (January 11, 2006), and amended at 72 FR 69723 (December 10, 2007, and at 78 FR 40542 (July 5, 2013), and at 83 FR 31250-31251 (July 3, 2018), and at 83 FR 54969 (November 1, 2018); the Electronic Disability (eDIB) Claim File, (60-0320) last fully published at 68 FR 71210 (December 22, 2003), and amended at 72 FR 69723 (December 10, 2007), and at 83 FR 54969 (November 1, 2018); the Ticket-to-Work and Self-Sufficiency Program Payment Database, (60-0295) last fully published at 66 FR 17985 (April 4, 2001), and amended at 72 FR 69723 (December 10, 2007), and at 83 FR 54969 (November 1, 2018); and the Ticket-to-Work Program Manager (PM) Management Information System, (60-0300) last fully published at 66 FR 32656 (June 15, 2001), and amended at 72 FR 69723 (December 10, 2007), and at 83 FR 54969 (November 1, 2018). SSA has the appropriate routine uses to disclose information to the NDNH under this agreement.

OCSE will match SSA information against the new hire, quarterly wage, and unemployment insurance information furnished by state and federal agencies maintained in its SOR “OCSE National Directory of New Hires” (NDNH), No. 09-80-0381, established by publication in the Federal Register on April 2, 2015, at 80 FR 17906. The disclosure of NDNH information by OCSE to SSA constitutes a “routine use”, as defined by the Privacy Act. 5 U.S.C. 552a(b)(3). Routine use (9) of the system of records authorizes disclosure of NDNH information to SSA, 80 FR 17906, 17907 (April 2, 2015).

SSA will access the OCSE web service when making online queries for new hire, quarterly wage, and unemployment insurance information in the NDNH. To comply with limitations on disclosure and to prohibit browsing, SSA access is restricted by anti-browsing technology (permission modules) to only those Social Security numbers (SSN) that have a direct business relationship with SSI, DI, or Ticket program (that is, the record must have a valid SSI, DI, or Ticket payment or application issue). If no business relationship exists with SSA, OCSE denies access to NDNH and the user is unable to proceed. If a business relationship exists with SSA, SSA can access the NDNH via the OCSE web service to display SSN-specific new hire, quarterly wage, or unemployment insurance information in the NDNH. The MFQM or eView extracts information from SSA's SSR (for SSI recipients) or CDR-CDD (for ticket holders and disability beneficiaries) to facilitate query access.

[FR Doc. 2019-28475 Filed 1-3-20; 8:45 am]

BILLING CODE P